DEPARTMENT OF TRANSPORTATION

Federal Railroad Administration

Notice of Final Agency Actions on Proposed Railroad Project in California, on Behalf of the California High-Speed Rail Authority

AGENCY: Federal Railroad Administration (FRA), Department of Transportation (DOT).

ACTION: Notice.

SUMMARY: The FRA, on behalf of the Authority, is issuing this notice to announce actions taken by the Authority that are final. By this notice, the FRA is advising the public of the time limit to file a claim seeking judicial review of the actions. The actions relate to a proposed railroad project, the California High-Speed Rail Project Merced to Fresno Project Section: Central Valley Wye in Merced, Madera, Fresno, and Stanislaus Counties, California. The Merced to Fresno Project Section: Central Valley Wye provides an approximately 51-mile portion of the larger 800-mile California High-Speed Rail (HSR) system planned throughout California. These actions grant approvals for project implementation pursuant to the National Environmental Policy Act (NEPA) and other laws, regulations, and executive orders.

DATES: A claim seeking judicial review of the agency actions on the railroad project will be barred unless the claim is filed on or before January 14, 2022. If Federal law authorizes judicial review of a claim that provides a time period of less than two years for filing such claim, then that shorter time period applies.

FOR FURTHER INFORMATION CONTACT:

For the Authority: Dan McKell, NEPA Assignment Manager, Environmental Services, California High-Speed Rail Authority, (telephone: 916-324-1541; email: dan.mckell@hsr.ca.gov).

For FRA: Stephanie Perez-Arrieta, Lead Environmental Protection Specialist, Federal Railroad Administration, (telephone: 202-493-0388; email: s.perez-arrieta@dot.gov).

SUPPLEMENTARY INFORMATION: bEffective July 23, 2019, FRA assigned, and the State of California acting through the Authority assumed, its responsibilities for environmental review, consultation, and other actions required by applicable Federal environmental laws for this project pursuant to 23 U.S.C. 327. Notice is hereby given that the Authority has taken final agency actions subject to 49 U.S.C. 24201(a)(4) and 23 U.S.C. 139(l)(1) by issuing approvals for the following railroad project in California: California High-Speed Rail Project Merced to Fresno Project Section: Central Valley Wye.

The purpose of the California HSR System is to provide a reliable high-speed electric-powered train system that links the major metropolitan areas of California, delivering predictable and consistent travel times. A further objective is to provide an interface with commercial airports, mass transit, and the highway network and to relieve capacity constraints of the existing transportation system as increases in intercity travel demand in California occur, in a manner sensitive to and protective of California's unique natural resources.

The FRA and the Authority published the Merced to Fresno Section Final Project Environmental Impact Report/Environmental Impact Statement (EIR/EIS) in April 2012. The FRA issued a Record of Decision (ROD) for the Merced to Fresno Project Section on September 18, 2012. The FRA's 2012 ROD deferred identification of a selected alternative for the Central Valley Wye. The Authority published the Merced to Fresno Section: Central Valley Wye Final Supplemental EIR/EIS (Final Supplemental EIR/EIS) on August 7, 2020. The Final Supplemental EIR/EIS was prepared as a supplement to the 2012 EIR/EIS for the Merced to Fresno Project Section. The Authority approved a Supplemental ROD for the Central Valley Wye portion of the Merced to Fresno Project Section on September 16, 2020. The Supplemental ROD is a supplement to FRA's 2012 ROD for the Merced to Fresno Project Section. The Supplemental ROD does not change any determinations made in FRA's 2012 ROD for the Merced to Fresno Project Section.

In the Supplemental ROD, the Authority selected the State Route (SR) 152 (North) to Road 11 Wye Alternative, identified in the Final Supplemental EIR/EIS, for the Central Valley Wye portion of the Merced to Fresno Project Section. The selected alternative is located west-southwest of the city of Chowchilla with the east-west axis along the north side of SR 152 and the north-south axis on the east side of Road 11. As part of the California HSR System, the selected alternative will provide the public with electric-powered HSR service that provides predictable and consistent travel times between major urban centers and connectivity to airports, mass transit, and the highway network in the north San Joaquin Valley, and that connects the system in the Central Valley to system facilities in the San Francisco Bay Area. The Authority selected this alternative because: (1) It best satisfies the Purpose, Need, and Objectives for the proposed action; and (2) it minimizes impacts on the natural and human environment by utilizing an existing transportation corridor where practicable and incorporating mitigation measures.

This conclusion does not alter, affect or change FRA's conclusions and decision in the 2012 Record of Decision (ROD) on the Merced to Fresno Final Environmental Impact Report/Environmental Impact Statement.

The actions by the Authority, and the laws under which such actions were taken, are described in the Supplemental ROD and Final Supplemental EIR/EIS. The Supplemental ROD, the Final Supplemental EIR/EIS, and other documents are available online in PDF format at the Authority website: www.hsr.ca.gov, and copies may be requested by contacting the Authority at the address above or by calling (916) 324-1541.

This notice applies to the Supplemental ROD, the Final Supplemental EIR/EIS, and all other Federal agency decisions with respect to the project as of the issuance date of this notice and all laws under which such actions were taken, including but not limited to:

1. Council on Environmental Quality regulations;

2. NEPA;

3. Fixing America's Surface Transportation Act;

4. Department of Transportation Act of 1966, Section 4(f);

5. Land and Water Conservation Fund Act of 1965, Section 6(f);

6. Clean Air Act Amendments of 1990;

7. Clean Water Act of 1977 and 1987;

8. Endangered Species Act of 1973;

9. Migratory Bird Treaty Act;

10. National Historic Preservation Act of 1966, as amended, Section 106;

11. Executive Order 11990, Protection of Wetlands;

12. Executive Order 11988, Floodplain Management;

13. Executive Order 12898, Federal Actions to Address Environmental Justice in Minority Populations and Low-Income Populations; and

14. Executive Order 13112, Invasive Species.

Issued in Washington, DC.
Jamie P. Rennert,
Director, Office of Infrastructure Investment.

[FR Doc. 2020-27441 Filed 12-11-20; 8:45 am]

BILLING CODE 4910-06-P